Proclamation 8574 of October 1, 2010

National Disability Employment Awareness Month, 2010

By the President of the United States of America

A Proclamation

As Americans, we understand employment and economic security are critical to fulfilling our hopes and aspirations. We also know we are stronger when our country and economy can benefit from the skills and talents of all our citizens. No individual in our Nation should face unnecessary barriers to success, and no American with a disability should be limited in his or her desire to work. During National Disability Employment Awareness Month, we renew our focus on improving employment opportunities and career pathways that lead to good jobs and sound economic futures for people with disabilities.

This year marks the 20th anniversary of the Americans with Disabilities Act (ADA), the landmark civil rights legislation that established a foundation of justice and equal opportunity for individuals with disabilities. In the two decades since its passage, much progress has been made. However, Americans with disabilities continue to be employed at a rate far below Americans without disabilities, and they are underrepresented in our Federal workforce.

My Administration is committed to ensuring people living with disabilities have fair access to jobs so they can contribute to our economy and realize their dreams. To help achieve this goal, I signed an Executive Order in July to increase Federal employment of individuals with disabilities. This directive requires Federal agencies to design model recruitment and hiring strategies for people with disabilities, and to implement programs to retain these public servants. To ensure transparency and accountability, agencies will report on their progress on hiring people with disabilities, and the Office of Personnel Management will post the results of agencies’ efforts online for public evaluation. As the Nation’s largest employer, the Federal Government can become a model employer by increasing employment across America of individuals with disabilities.

The 21st-century economy demands a highly educated workforce equipped with the technology and skills to maintain America’s leadership in the global marketplace. Technology has changed the way we work, and the Federal Government is leveraging emerging, assistive, and other workplace technologies to improve the options available for everyone, including workers with disabilities. We must improve the accessibility of our workplaces and enable the collaboration and contributions of every employee, and that is why I look forward to signing into law the Twenty-First Century Communications and Video Accessibility Act of 2010. This legislation will greatly increase access to technology, with advances in areas such as closed captioning, delivery of emergency information, video description, and other advanced communications—all essential tools for learning and working in today’s technological society.

Individuals with disabilities are a vital and dynamic part of our Nation, and their contributions have impacted countless lives. People with disabilities bring immeasurable value to our workplaces, and we will continue to address the challenges to employment that must be overcome. This month, let us rededicate ourselves to fostering equal access and fair opportunity in our labor force, and to capitalizing on the talent, skills, and rich diversity of all our workers.

NOW, THEREFORE, I, BARACK OBAMA, President of the United States of America, by virtue of the authority vested in me by the Constitution and the laws of the United States, do hereby proclaim October 2010 as National Disability Employment Awareness Month. I urge all Americans to embrace the unique value that individuals with disabilities bring to our workplaces and communities and to promote everyone’s right to employment.

IN WITNESS WHEREOF, I have hereunto set my hand this first day of October, in the year of our Lord two thousand ten, and of the Independence of the United States of America the two hundred and thirty-fifth.

[FR Doc. 2010-25574

Filed 10-7-10; 8:45 am]

Billing code 3195-W1-P